DEPARTMENT OF HEALTH AND HUMAN SERVICES

Administration for Children and Families

Family and Youth Services Bureau; Proposed Information Collection Activity; Comment Request

Title: Personal Responsibility Education Program (PREP) Multi-Component Evaluation.

OMB No.: 0970-0398

Description: The Family and Youth Services Bureau (FYSB) and the Office of Planning, Research, and Evaluation (OPRE), Administration for Children and Families (ACF), U.S. Department of Health and Human Services (HHS), are proposing data collection activity as part of the PREP Multi-Component Evaluation.

The goals of the PREP Multi-Component Evaluation are to document how PREP programs are operationalized in the field, collect performance measure data for PREP programs, and assess the effectiveness of selected PREP-funded programs. The PREP Multi-Component Evaluation will make a significant contribution to the teen pregnancy prevention literature and will produce useful findings for state and federal policymakers, researchers, and program administrators.

The evaluation will include the following three primary, interconnected components, or “studies”:

1. The Impact and Implementation Study (IS): This study will involve impact and in-depth implementation evaluations of four to five specific PREP-funded sites. The study will consider how selected programs implemented key components of the PREP program, such as adult preparation subjects and substantial emphasis on abstinence and contraception and addressed key implementation considerations, such as adherence, dosage, quality of service delivery, and participant response. The impact of the selected PREP programs will be determined based on a random assignment (at the individual, classroom, or school level) evaluation design, which will involve baseline surveys and two follow-up surveys. This will allow short- and long-term impacts to be measured. One information collection request for a field instrument, focused on discussions with individuals involved in PREP programs (i.e. state-level PREP program coordinators, program directors, program staff, and school administrators) in order to inform site selection for this study, was approved on November 6, 2011.

2. The Design and Implementation Study (DIS): This study will be a broad descriptive analysis of how States designed and implemented PREP programs. The study will use multiple methods of information collection, including telephone interviews that will be conducted in every state operating a PREP program, to better understand the general design and implementation of PREP programs. For this study, two rounds of interviews will be conducted: The first round of interviews, known as the “Design Survey”, will focus on how states designed programs, and the second round of interviews, known as the “Implementation Survey”, will focus on how states and sub-awardees actually implemented their programs. An information collection request has already been submitted to OMB for the “Design Survey” discussion guide.

3. The Performance Analysis Study (PAS): This study will focus on the development and collection of performance data for the purpose of semi-annual and annual reporting on state PREP performance outcomes, in order to determine if PREP grantees (i.e. states and sub-awardees) are meeting performance benchmarks related to the program's mission and priorities. At present, there is only one information collection request for the PAS.

This 60 Day Notice covers (a) the baseline and administrative instruments for the Impact and Implementation Study; (b) all instruments for the Performance Analysis Study; and (c) a request for OMB to waive subsequent 60-day Federal Register notices pertaining to the PREP Multi-Component Evaluation.

Impact and Implementation Study Respondents: Respondents to the baseline survey will be participants in PREP-funded programs, including school students and other youth. Administrative respondents include schools and organizations that oversee PREP-funded programs or that have program and/or school participation data.

Performance Analysis Study Respondents: Performance measurement data collection instruments will be administered to individuals representing states (i.e. PREP state-level coordinators), as well as sub-awardees (i.e. program directors), program facilitators, other program staff, and program participants.

Annual Burden Estimates

The following instruments, part of the Impact and Implementation Study (IIS), were approved on November 6, 2011.

Instrument | Annual number of respondents | Number of responses per respondent | Average burden hours per response | Total burden hours
Discussion Guide for use with Macro-Level Coordinators | 10 | 1 | 1 | 10
Discussion Guide for Use with Program Directors | 20 | 2 | 2 | 80
Discussion Guide for Use with Program Staff | 40 | 1 | 2 | 80
Discussion Guide for Use with School Administrators | 70 | 1 | 1 | 70
Approved Annual Burden |  |  |  | 240

The following instrument, the “Design Survey” discussion guide for the the Design and Implementation Study (DIS), is currently under review at OMB.

Instrument | Annual number of respondents | Number of responses per respondent | Average burden hours per response | Total burden hours
Discussion Guide for Use with PREP State-Level Coordinators and State-Level Staff | 46 | 1 | 1 | 46
Total Annual Burden |  |  |  | 46

The following instruments, part of the Impact and Implementation Study, are proposed for public comment under this 60-Day Federal Register Notice.

Instrument | Annual number of respondents | Number of responses per respondent | Average burden hours per response | Total burden hours
Baseline instrument | 2,000 | 1 | .7 | 1,400
Administrative data collection instrument for schools and organizations | 34 | 2 | 4 | 272
Total Annual Burden |  |  |  | 1,672

The following instruments, part of the Performance Analysis Study, are proposed for public comment under this 60-Day Federal Register Notice.

Instrument | Annual number of respondents | Number of responses per respondent | Average burden hours per response | Total burden hours
Measures of Demographics, Behaviors, Intentions, Perceived Impacts
Program entrance survey | 90,000 | 1 | .33 | 29,700
Program exit survey | 60,300 | 1 | .33 | 19,899
Demographics, behaviors, intentions, and perceived impacts data collection | 350 | 2 | 4 | 2,800
Measures of Attendance, Reach, Dosage
Participant attendance log | 1,400 | 2 | 4 | 11,200
Participant attendance log | 1,400 | 2 | 4 | 11,200
Program session log | 1,400 | 2 | 4 | 11,200
Attendance, reach, and dosage data collection | 350 | 2 | 4 | 2,800
Measures of Fidelity
Session observation instrument | 1,400 | 2 | 8 | 22,400
Fidelity data collection | 350 | 2 | 4 | 2,800
Measures of Cost, Partners, Training
Program director survey | 350 | 2 | 4 | 2,800
State PREP coordinator survey | 49 | 2 | 4 | 392
State Submission of Data
Data collection from sub-awardees on demographics, behaviors, intentions, perceived impacts, attendance, reach, dosage, fidelity, cost, partners, and training | 49 | 2 | 16 | 1,568
Estimated Total Annual Burden |  |  |  | 107,559

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 6, 2011.
Steven M. Hanmer,
Reports Clearance Officer.

[FR Doc. 2011-31703 Filed 12-12-11; 8:45 am]

BILLING CODE 4184-37-M